DEPARTMENT OF LABOR

Employment and Training Administration

[TA-W-52,641]

Ault Incorporated, Minneapolis, MN; Notice of Termination of Investigation

Pursuant to Section 221 of the Trade Act of 1974, an investigation was initiated on August 21, 2003 in response to a worker petition which was filed by a company official on behalf of workers at Ault Incorporated, Minneapolis, Minnesota (TA-W-52,641).

The petitioner has requested that the petition be withdrawn. Consequently, further investigation in this case would serve no purpose, and the investigation has been terminated.

Signed in Washington, DC, this 8th day of September 2003.
Richard Church,
Certifying Officer, Division of Trade Adjustment Assistance.

[FR Doc. 03-25733 Filed 10-9-03; 8:45 am]

BILLING CODE 4510-30-P